FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. Copies of the agreement are available through the Commission's Web site (http://www.fmc.gov) or by contacting the Office of Agreements at (202) 523-5793 or tradeanalysis@fmc.gov.

Agreement No.: 201201.

Title: Port of Seattle/Terminal Operator Agreement.

Parties: Port of Seattle; Eagle Marine Services, Ltd; SSA Terminals LLC; SSA Terminals (Seattle), LLC; and Total Terminals International, LLC.

Filing Party: David F. Smith, Esq.; Sher & Blackwell LLP; 1850 M Street, NW.; Suite 900; Washington, DC 20036; C. Jonathan Benner; Esq.; Troutman Sanders LLP; 401 9th Street, NW.; Suite 1000; Washington, DC 20004.

Synopsis: The agreement would authorize the parties to discuss, exchange information, and reach agreement regarding various matters pertaining to operations at the Port of Seattle.

By Order of the Federal Maritime Commission.
Dated: May 15, 2009.
Karen V. Gregory,
Secretary.

[FR Doc. E9-11760 Filed 5-19-09; 8:45 am]

BILLING CODE 6730-01-P